DEPARTMENT OF COMMERCE

National Oceanic and Atmospheric Administration

50 CFR Part 300

[Docket No. 180716667-8667-01]

RIN 0648-BI36

International Fisheries; Pacific Tuna Fisheries; 2019 and 2020 Commercial Fishing Restrictions for Pacific Bluefin Tuna in the Eastern Pacific Ocean; Reopen Public Comment Period

AGENCY: National Marine Fisheries Service (NMFS), National Oceanic and Atmospheric Administration (NOAA), Commerce.

ACTION: Proposed rule; reopen public comment period.

SUMMARY: On December 27, 2018, NMFS published a proposed rule in the Federal Register to implement annual limits on commercial catch of Pacific bluefin tuna (Thunnus orientalis) in the eastern Pacific Ocean (EPO) for 2019 and 2020. Comments were due by January 16, 2019. However, due to a lapse in appropriations, the link to the public comment portal provided in the proposed rule was not active. Consequently, NMFS is reopening the public comment period for an additional 15 calendar days.

DATES: Comments on the proposed rule and supporting documents must be submitted in writing by March 6, 2019.

ADDRESSES: You may submit comments on this document, identified by NOAA-NMFS-2018-0126, by any of the following methods:

• Electronic Submission: Submit all electronic public comments via the Federal e-Rulemaking Portal. Go to http://www.regulations.gov/#!docketDetail;D=NOAA-NMFS-2018-0126, click the “Comment Now!” icon, complete the required fields, and enter or attach your comments.

• Mail: Submit written comments to Celia Barroso, NMFS West Coast Region Long Beach Office, 501 W Ocean Blvd., Suite 4200, Long Beach, CA 90802. Include the identifier “NOAA-NMFS-2018-0126” in the comments.

Instructions: Comments must be submitted by one of the above methods to ensure they are received, documented, and considered by NMFS. Comments sent by any other method, to any other address or individual, or received after the end of the comment period may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

Please submit written comments regarding the burden-hour estimates or other aspects of the collection-of-information requirements contained in this proposed rule and subject to the Paperwork Reduction Act to Celia Barroso, NMFS West Coast Region Long Beach Office (see address above) and by email to OIRA_Submission@omb.eop.gov, or by fax to (202) 395-7285.

Copies of the draft Regulatory Impact Review (RIR) and other supporting documents are available via the Federal eRulemaking Portal: www.regulations.gov, docket NOAA-NMFS-2018-0126, or contact the Highly Migratory Species Branch Chief, Heidi Taylor, 501 W Ocean Blvd., Suite 4200, Long Beach, CA 90208, or WCR.HMS@noaa.gov.

FOR FURTHER INFORMATION CONTACT: Celia Barroso, NMFS, 562-432-1850, Celia.Barroso@noaa.gov.

SUPPLEMENTARY INFORMATION: On December 27, 2018, NMFS published a proposed rule under the Tuna Conventions Act of 1950 to implement Inter-American Tropical Tuna Commission Resolution C-18-01 (Measures for the Conservation and Management of Bluefin Tuna in the Eastern Pacific Ocean, 2019-2020) and Resolution C-18-02 (Amendment to Resolution C-16-08 on a Long-term Management Framework for the Conservation and Management of Pacific Bluefin Tuna in the Eastern Pacific Ocean) (83 FR 66665). This proposed rule would implement annual limits on commercial catch of Pacific bluefin tuna (Thunnus orientalis) in the EPO for 2019 and 2020. This action is necessary to conserve Pacific bluefin tuna and for the United States to satisfy its obligations as a member of the IATTC.

As a result of the U.S. government partial lapse in appropriations, the Federal eRulemaking Portal at www.regulations.gov that was cited in the proposed rule as a method to provide public comments was not active during the entire comment period. Therefore, NMFS has decided to reopen the period for public comment for an additional 15 days.

The notice of the proposed rule (83 FR 66665, December 27, 2018) contains more background information, which is not repeated here.

Authority: 16. U.S.C. 951 et seq.

Dated: February 12, 2019.
Samuel D. Rauch, III,
Deputy Assistant Administrator for Regulatory Programs, National Marine Fisheries Service.

[FR Doc. 2019-02576 Filed 2-15-19; 8:45 am]

BILLING CODE 3510-22-P